DEPARTMENT OF HOMELAND SECURITY

Federal Emergency Management Agency

[Docket ID FEMA-2018-0002; Internal Agency Docket No. FEMA-B-1818]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: March 22, 2018.
Roy E. Wright,
Deputy Associate Administrator for Insurance and Mitigation, Department of Homeland Security, Federal Emergency Management Agency.

State and county | Location and case No. | Chief executive officer of community | Community map repository | Online location of letter of map revision | Date of modification | Community No.
Arizona:
Maricopa | City of Buckeye (17-09-1551P) | The Honorable Jackie A. Meck, Mayor, City of Buckeye, 530 East Monroe Avenue, Buckeye, AZ 85326 | Engineering Department, 530 East Monroe Avenue, Buckeye, AZ 85326 | https://msc.fema.gov/port al/advanceSearch | Jun. 22, 2018 | 040039
Maricopa | City of Phoenix (18-09-0275P) | The Honorable Greg Stanton Mayor, City of Phoenix 200 West Washington Street, 11th Floor Phoenix, AZ 85003 | Street Transportation Department, 200 West Washington Street, 5th Floor Phoenix, AZ 85003 | https://msc.fema.gov/port al/advanceSearch | Jun. 15, 2018 | 040051
California:
Riverside | Unincorporated Areas of Riverside County (18-09-0328P) | The Honorable Chuck Washington Chairman, Board of Supervisors, Riverside County, 4080 Lemon Street, 5th Floor, Riverside, CA 92501 | Riverside County Flood Control and Water Conservation District, 1995 Market Street, Riverside, CA 92501 | https://msc.fema.gov/portal/advanceSearch | Jun. 25, 2018 | 060245
Sacramento | Unincorporated Areas of Sacramento County (17-09-2390P) | The Honorable Susan Peters, Chair, Board of Supervisors, Sacramento County, 700 H Street, Suite 2450, Sacramento, CA 95814 | Sacramento County Department of Water Resources, 827 7th Street, Suite 301, Sacramento, CA 95814 | https://msc.fema.gov/portal/advanceSearch | Jul. 2, 2018 | 060262
San Diego | City of Oceanside (17-09-0571P) | The Honorable Peter Weiss, Mayor, City of Oceanside, 300 North Coast Highway, Oceanside, CA 92054 | City Hall, 300 North Coast Highway, Oceanside, CA 92054 | https://msc.fema.gov/portal/advanceSearch | Jul. 3, 2018 | 060294
Florida: Duval | City of Jacksonville (17-04-4852P) | The Honorable Lenny Curry, Mayor, City of Jacksonville, 117 West Duval Street, Suite 400, Jacksonville, FL 32202 | City Hall, 117 West Duval Street, Jacksonville, FL 32202 | https://msc.fema.gov/portal/advanceSearch | Jun. 15, 2018 | 120077
Minnesota:
Clay | City of Moorhead (17-05-3618P) | The Honorable Del Rae Williams, Mayor, City of Moorhead, 500 Center Avenue, Moorhead, MN 56561 | City Hall, 500 Center Avenue, Moorhead, MN 56561 | https://msc.fema.gov/portal/advanceSearch | Jun. 15, 2018 | 275244
Clay | Unincorporated Areas of Clay County (17-05-3618P) | The Honorable Kevin Campbell Chairman, Board of Commissioners, Clay County, 807 11th Street North, Moorhead, MN 56560 | Clay County Courthouse, 807 11th Street North, Moorhead, MN 56560 | https://msc.fema.gov/portal/advanceSearch | Jun. 15, 2018 | 275235
Missouri: Laclede | City of Lebanon (17-07-1875P) | The Honorable Jared Carr, Mayor, City of Lebanon, 401 South Jefferson Avenue, Lebanon, MO 65536 | City Hall, 400 South Madison Street, Lebanon, MO 65536 | https://msc.fema.gov/portal/advanceSearch | Jun. 21, 2018 | 290197
Nevada:
Storey | Unincorporated Areas of Storey County (16-09-2438P) | The Honorable Marshall McBride, Chairman, Board of Commissioners, Storey County, P.O. Box 176, Virginia City, NV 89440 | Storey County Courthouse, 26 South B Street, Virginia City, NV 89440 | https://msc.fema.gov/portal/advanceSearch | Jun. 18, 2018 | 320033
Washoe | Unincorporated Areas of Washoe County (16-09-2438P) | The Honorable Bob Lucey, Chairman, Board of Commissioners, Washoe County, 1001 East 9th Street, Reno, NV 89512 | Washoe County Administration Building, Department of Public Works, 1001 East 9th Street, Reno, NV 89512 | https://msc.fema.gov/portal/advanceSearch | Jun. 18, 2018 | 320019
New York:
Erie | Town of Elma (17-02-0955P) | The Honorable Dennis Powers Supervisor, Town of Elma, 1600 Bowen Road, Elma, NY 14059 | Town Hall, 1910 Bowen Road, Elma, NY 14059 | https://msc.fema.gov/portal/advanceSearch | Jul. 19, 2018 | 360239
Erie | Town of Lancaster (17-02-0955P) | The Honorable Johanna M. Coleman, Board Supervisor, Town of Lancaster, 21 Central Avenue, Lancaster, NY 14086 | Building Inspector, 11 West Main Street, Lancaster, NY 14086 | https://msc.fema.gov/portal/advanceSearch | Jul. 19, 2018 | 360249
Monroe | Town of Webster (17-02-1830P) | Mr. Ronald W. Nesbitt, Webster Town Supervisor, 1000 Ridge Road, Webster, NY 14580 | Town Hall, 1000 Ridge Road, Webster, NY 14580 | https://msc.fema.gov/portal/advanceSearch | Aug. 2, 2018 | 360436
Ohio:
Franklin | City of Columbus (18-05-0919P) | The Honorable Michael B. Coleman, Mayor, City of Columbus, 90 West Broad Street, 2nd Floor, Columbus, OH 43215 | Department of Development, 757 Carolyn Avenue, Columbus, OH 43224 | https://msc.fema.gov/portal/advanceSearch | Jun. 29, 2018 | 390170
Franklin | City of Grandview Heights (18-05-0919P) | The Honorable Ray E. DeGraw, Mayor, City of Grandview Heights, 1525 Goodale Boulevard, Grandview Heights, OH 43212 | Development Office, 1525 West Goodale Boulevard, Grandview Heights, OH 43212 | https://msc.fema.gov/portal/advanceSearch | Jun. 29, 2018 | 390172
Oregon: Benton | Unincorporated Areas of Benton County (17-10-1169P) | Ms. Annabelle Jaramillo, Chair, Benton County Board of Commissioners, 205 Northwest 5th Street, Corvallis, OR 97339 | Benton County Sheriff's Office, 180 Northwest 5th Avenue, Corvallis, OR 97333 | https://msc.fema.gov/portal/advanceSearch | Jun. 29, 2018 | 410008

[FR Doc. 2018-06808 Filed 4-3-18; 8:45 am]

BILLING CODE 9110-12-P